DEPARTMENT OF THE INTERIOR

National Park Service

Final Environmental Impact Statement for the General Management Plan, for Manassas National Battlefield Park, VA

AGENCY: Department of the Interior, National Park Service.

ACTION: Notice of Availability of the Final Environmental Impact Statement for the General Management Plan for Manassas National Battlefield Park.

SUMMARY: Pursuant to the National Environmental Policy Act of 1969, 42 U.S.C. 4332(C), the National Park Service (NPS) announces the availability of a Final Environmental Impact Statement for the General Management Plan for Manassas National Battlefield Park (FEIS/GMP). The General Management Plan will guide management decisions related to cultural and natural resources, visitation, and park development for the next 15 to 20 years. The responsible official is Mr. Joseph M. Lawler, Regional Director, National Capital Region.

DATES: A 30-day no action period will follow publication by the Environmental Protection Agency of the Notice of Availability of the FEIS/GMP.

ADDRESSES: Information will be available for public review in the Office of the Superintendent, Manassas National Battlefield Park, 12521 Lee Highway, Manassas, Virginia 20109-2005. Copies of the document may also be accessed via Internet connection at the NPS Planning, Environment, and Public Comment (PEPC) Web site at http://parkplanning.nps.gov. Paper and electronic copies on CD-ROM of the FEIS/GMP are also available by request. Interested persons and organizations can request copies by telephone at (703) 754-1861, by e-mail at Ed_W_Clark@nps.gov, or by written request to Mr. Ed W. Clark, Superintendent, Manassas National Battlefield Park, 12521 Lee Highway, Manassas, Virginia 20109-2005.

SUPPLEMENTARY INFORMATION: The Draft Environmental Impact Statement for the General Management Plan was on review from December 31, 2005, to February 27, 2006. Responses to public comment are addressed in the FEIS/GMP.

The FEIS/GMP analyzes three alternatives for managing Manassas National Battlefield Park. The plan is intended to provide a foundation to help park managers guide park programs and set priorities for the management of the park for the next 15 to 20 years. The FEIS/GMP analyzes the environmental impacts of the alternatives considered on natural and cultural resources, visitor experience and interpretation, transportation within the park, and park operations.

Alternative A, the no-action alternative, is a continuation of present management approaches regarding visitor experience and resource protection. Alternative B, the preferred alternative, would focus on providing a comprehensive look at both battles. The preferred alternative, as it was described in the Draft Environmental Impact Statement for the General Management Plan, has been modified in the FEIS/GMP based on public and agency comments that were received during the review period for the Draft Environmental Impact Statement for the General Management Plan. Alternative C would focus on providing a comprehensive look at the defining moments of the two battles.

FOR FURTHER INFORMATION CONTACT: Ed W. Clark, Superintendent, Manassas National Battlefield Park, 12521 Lee Highway, Manassas, Virginia 20109-2005, telephone (703) 754-1861, Ed_W_Clark@nps.gov .

Dated: May 16, 2008.
Joseph M. Lawler,
Regional Director, National Capital Region.

Editorial Note: This document was received in the Office of the Federal Register on September 12, 2008.

[FR Doc. E8-21694 Filed 9-16-08; 8:45 am]

BILLING CODE 4312-49-P